DEPARTMENT OF THE TREASURY

Internal Revenue Service

26 CFR Part 301

[TD 9073]

RIN 1545-BB17

Disclosure of Return Information by Certain Officers and Employees for Investigative Purposes; Correction

AGENCY: Internal Revenue Service (IRS), Treasury.

ACTION: Correction to temporary regulations.

SUMMARY: This document contains corrections to temporary regulations that was published in the Federal Register on Thursday, July 10, 2003 (68 FR 41073), relating to the disclosure of return information pursuant to section 6103(k)(6) of the Internal Revenue Code.

DATES: These corrections are effective July 10, 2003.

FOR FURTHER INFORMATION CONTACT: Helene R. Newsome, (202) 622-4570 (not a toll-free number).

SUPPLEMENTARY INFORMATION:

Background

The temporary regulations that are the subject of these corrections are under section 6103(k)(6) of the Internal Revenue Code.

Need for Correction

As published, the temporary regulations contains errors that may prove to be misleading and are in need of clarification.

Correction of Publication

Accordingly, the publication of temporary regulations (TD 9073), that was the subject of FR Doc. 03-17384, is corrected as follows:

§ 301.6103(k)(6)-1T [Corrected]

1. On page 41076, column 1, § 301.6103(k)(6)-1T(a)(1)(v), line 7, the language, “paragraph (a)(1)(iii) of this section skills” is corrected to read “paragraph (a)(1)(iii) of this section or skills”.

2. On page 41076, column 3, § 301.6103(k)(6)-1T(c)(1), line 16 from the top of the column, the language, “not limit or prescribe IRS or TIGTA” is corrected to read “not limit or proscribe IRS or TIGTA”.

Cynthia E. Grigsby,
Acting Chief, Publications and Regulations Branch, Legal Processing Division, Associate Chief Counsel, (Procedure and Administration).

[FR Doc. 03-24416 Filed 9-25-03; 8:45 am]

BILLING CODE 4830-01-P